ENVIRONMENTAL PROTECTION AGENCY

40 CFR Parts 122, 123, 124 and 125

[EPA-HQ-OW-2016-0145; FRL-9948-35-OW]

RIN 2040-AF25

Notice of Extension to Comment Period on the National Pollutant Discharge Elimination System: Applications and Program Updates Proposed Rule

AGENCY: Environmental Protection Agency (EPA).

ACTION: Extension of Comment Period.

SUMMARY: EPA is extending the comment period for the notice, “National Pollutant Discharge Elimination System (NPDES): Applications and Program Updates.” In response to stakeholder requests, EPA is extending the comment period for an additional 15 days, from July 18, 2016 to August 2, 2016.

DATES: The comment period for the notice that was published on May 18, 2016 (81 FR 31344), is extended. Comments must be received on or before August 2, 2016.

ADDRESSES: Submit your comments, identified by Docket ID No. EPA-HQ-OW-2016-0145, to the Federal eRulemaking Portal: http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Erin Flannery-Keith, Water Permits Division, Office of Wastewater Management, Mail Code 4203M, Environmental Protection Agency, 1200 Pennsylvania Ave. NW., Washington, DC 20460; (202) 566-0689; flannery-keith.erin@epa.gov.

SUPPLEMENTARY INFORMATION: On May 18, 2016 EPA published in the Federal Register (81 FR 31344) a proposed rule that would make targeted revisions to the NPDES regulations. These revisions would make the regulations consistent with the 1987 CWA Amendments and with applicable judicial decisions. These revisions would delete certain regulatory provisions that are no longer in effect and clarify the level of documentation that permit writers must provide for permitting decisions. EPA is also asking for public comments on potential ways to enhance public notice and participation in the permitting process. CWA section 402 established the NPDES permitting program and gives EPA authority to write regulations to implement the NPDES program. 33 U.S.C. 1342(a)(1), (2). The proposed rule, as initially published in the Federal Register, provided for written comments to be submitted to EPA on or before July 18, 2016 (a 60-day public comment period). Since publication, EPA has received a request for additional time to submit comments. EPA is extending the public comment period for 15 days until August 2, 2016.

Dated: June 17, 2016.
Joel Beauvais,
Deputy Assistant Administrator, Office of Water.

[FR Doc. 2016-15134 Filed 6-24-16; 8:45 am]

BILLING CODE 6560-50-P